DEPARTMENT OF ENERGY

Federal Energy Regulatory Commission

[Project No. 12451-001—Minnesota Lower St. Anthony Falls Project]

SAF Hydroelectric, LLC; Notice of Proposed Restricted Service List for a Programmatic Agreement for Managing Properties Included in or Eligible for Inclusion in the National Register of Historic Places

October 29, 2004.

Rule 2010 of the Federal Energy Regulatory Commission's (Commission) Rules of Practice and Procedure provides that, to eliminate unnecessary expense or improve administrative efficiency, the Secretary may establish a restricted service list for a particular phase or issue in a proceeding.¹ The restricted service list should contain the names of persons on the service list who, in the judgment of the decisional authority establishing the list, are active participants with respect to the phase or issue in the proceeding for which the list is established.

¹ 18 CFR 385.2010.

The Commission staff is consulting with the Minnesota State Historic Preservation Officer (hereinafter, SHPO) and the Advisory Council on Historic Preservation (hereinafter, Council) pursuant to the Council's regulations, 36 CFR part 800, implementing section 106 of the National Historic Preservation Act, as amended, (16 U.S.C. 470 f), to prepare and execute a programmatic agreement for managing properties included in, or eligible for inclusion in, the National Register of Historic Places at Project No. 12451-001.

The programmatic agreement, when executed by the Commission and the SHPO, would satisfy the Commission's section 106 responsibilities for all individual undertakings carried out in accordance with the license until the license expires or is terminated (36 CFR 800.13[e]). The Commission's responsibilities pursuant to section 106 for the Lower St. Anthony Falls Project would be fulfilled through the programmatic agreement, which the Commission proposes to draft in consultation with the SHPO; the Shakopee Mdewakanton Sioux Community of Minnesota; the U.S. Army Corp of Engineers; and the U.S. Bureau of Indian Affairs. The executed programmatic agreement would be incorporated into any Order issuing a license.

SAF Hydroelectric, LLC, the applicant and prospective licensee for Project No. 12451-001, is invited to participate in consultations to develop the Programmatic Agreement and to sign as a concurring party to the Programmatic Agreement. For purposes of commenting on the Programmatic Agreement, we propose to restrict the service list for Project No. 12451-001 as follows:

Dr. Laura Henley Dean, Advisory Council on Historic Preservation, The Old Post Office Building, Suite 803, 1100 Pennsylvania Avenue, NW., Washington, DC 20004.

Dennis Gimmestad, Minnesota Historical Society, State Historic Preservation Office, 345 Kellogg Blvd W, Saint Paul, MN 55102-1903.

Rachel Ramadhyani, Project Manager, Minneapolis Park and Recreation Board, 2117 W River Rd, Minneapolis, MN 55411-2227.

Terrance Virden, Regional Director, Bureau of Indian Affairs, One Federal Drive, Room 550, Ft. Snelling, MN 55111-4007.

Stanley Crooks, Chairman, Shakopee Sioux Community, Shakopee Sioux Community Council, 2330 Sioux Trail, NW., Prior Lake, MN 55372.

Douglas A Spaulding, Spaulding Consultants, LLC, 1433 Utica Ave S Ste 162, Minneapolis, MN 55416-1553.

JoAnn Kryal, Superintendent, Mississippi National River and Recreation Area, 111 Kellogg Boulevard, East, Suite 105, St. Paul, MN 55101-1288.

Matthew Pearcy, Historian, Army Corps of Engineers Centre, 190 Fifth Street East, St. Paul, MN 55101-1638.

Melissa Bean, Marcy-Holmes Neighborhood Association, 1313 Southeast Fifth Street, Suite 138, Minneapolis, MN 55414.

John Crippen, St. Anthony Falls Heritage Board, 704 South Second Street, Minneapolis, MN 55401.

Greg Mathis, Minneapolis Heritage Preservation Commission, City Hall, Room 210, 350 South Fifth Street, Minneapolis, MN 55415-1385.

Any person on the official service list for the above-captioned proceedings may request inclusion on the restricted service list, or may request that a restricted service list not be established, by filing a motion to that effect within 15 days of this notice date.

An original and 8 copies of any such motion must be filed with the Secretary of the Commission (888 First Street, NE., Washington, DC 20426) and must be served on each person whose name appears on the official service list.

If no such motions are filed, the restricted service list will be effective at the end of the 15 day period. Otherwise, a further notice will be issued ruling on the motion.

Magalie R. Salas,
Secretary.

[FR Doc. E4-3064 Filed 11-5-04; 8:45 am]

BILLING CODE 6717-01-P